DEPARTMENT OF ENERGY

Federal Energy Regulatory Commission

[Project No. 96-048]

Pacific Gas and Electric Company; Notice of Reasonable Period of Time for Water Quality Certification Application

On August 14, 2025, the California State Water Resources Control Board (Water Board) submitted to the Federal Energy Regulatory Commission (Commission) notice that it received a request for a Clean Water Act section 401(a)(1) water quality certification as defined in 40 CFR. 121.5, from Pacific Gas and Electric Company, in conjunction with the above captioned project, on July 16, 2025. Pursuant to the Commission's regulations,¹ we hereby notify the Water Board of the following:

¹ 18 CFR 5.23(b).

Date of Receipt of the Certification Request: July 16, 2025.

Reasonable Period of Time to Act on

If the Water Board fails or refuses to act on the water quality certification request on or before the above date, then the certifying authority is deemed waived pursuant to section 401(a)(1) of the Clean Water Act, 33 U.S.C. 1341(a)(1).

Dated: August 20, 2025.
Debbie-Anne A. Reese,
Secretary.

[FR Doc. 2025-16306 Filed 8-25-25; 8:45 am]

BILLING CODE 6717-01-P